SECURITIES AND EXCHANGE COMMISSION

17 CFR Parts 210, 211, 229, 231 and 241

[Release No. 33-10349; 34-80479; File No. S7-02-17]

RIN 3235-AL79

Request for Comment on Possible Changes to Industry Guide 3 (Statistical Disclosure by Bank Holding Companies); Extension of Comment Period

AGENCY: Securities and Exchange Commission.

ACTION: Extension of comment period.

SUMMARY: The Securities and Exchange Commission is extending the comment period for its request for comment seeking public input as to the disclosures called for by Industry Guide 3, Statistical Disclosure by Bank Holding Companies. The original comment period is scheduled to end on May 8, 2017. The Commission is extending the time period in which to provide the Commission with comments until July 7, 2017. This action will allow interested persons additional time to analyze the issues and prepare their comments.

DATES: Comments should be received on or before July 7, 2017.

ADDRESSES: Comments may be submitted by any of the following methods:

Electronic Comments

• Use the Commission's Internet comment form (http://www.sec.gov/rules/other.shtml);

• Send an email to rule-comments@sec.gov. Please include File Number S7-02-17 on the subject line; or

• Use the Federal eRulemaking Portal (http://www.regulations.gov). Follow the instructions for submitting comments.

Paper Comments

• Send paper comments to Brent J. Fields, Secretary, Securities and Exchange Commission, 100 F Street NE., Washington, DC 20549-1090.

All submissions should refer to File Number S7-02-17. This file number should be included on the subject line if email is used. To help us process and review your comments more efficiently, please use only one method of submission. The Commission will post all comments on the Commission's Web site (http://www.sec.gov/rules/other.shtml). Comments also are available for Web site viewing and printing in the Commission's Public Reference Room, 100 F Street NE., Washington, DC 20549, on official business days between the hours of 10:00 a.m. and 3:00 p.m. All comments received will be posted without change; the Commission does not edit personal identifying information from submissions. You should submit only information that you wish to make available publicly.

FOR FURTHER INFORMATION CONTACT: Lindsay McCord, Associate Chief Accountant in the Office of Chief Accountant, Division of Corporation Finance, at (202) 551-3400, U.S. Securities and Exchange Commission, 100 F Street NE., Washington, DC 20549.

SUPPLEMENTARY INFORMATION: The Commission has published a request for comment to seek public input as to the disclosures called for by Industry Guide 3, Statistical Disclosure by Bank Holding Companies. Specifically, we sought comment on new or revised disclosure or the elimination of what may be duplicative or overlapping disclosures in Guide 3. We also sought input on whether any of the Guide 3 disclosures, which are not Commission rules or requirements, should be codified as Commission rules. Because we are considering modernization of the scope and applicability of Guide 3, we also encouraged commenters to consider registrants other than bank holding companies when recommending improvements to the disclosure regime. The request for comment is part of the staff's broad-based review of the Commission's disclosure requirement, including its consideration of how the disclosure system could be improved for the benefit of both investors and registrants.

The Commission originally requested that comments on the request for comment be received by May 8, 2017. The Commission has received requests for an extension of time for public comment to, among other things, allow for adequate time to fully consider our request and to improve the quality of responses.¹ In particular, we note that those requesting the extension have indicated that several industry participants are in the process of preparing for capital plan and annual and quarterly report deadlines and are therefore unable to perform the level of analysis and review of the request for comment to provide thoughtful responses to the detailed questions posed in the request before the comment period closes on May 8, 2017. The Commission believes that providing the public additional time to consider thoroughly the matters addressed by the request for comment and to submit comprehensive responses to the request for comment would benefit the Commission in its consideration of possible revisions to its disclosure regime for bank holding companies. Therefore, the Commission is extending the comment period for Release No. 33-10321; 34-80131; File No. S7-02-17 “Request for Comment on Possible Changes to Industry Guide 3 (Statistical Disclosure By Bank Holding Companies)” until July 7, 2017.

¹ See Letter from American Bankers Association (Mar. 24, 2017); and a joint Letter from The Clearing House Association, LLC, Securities Industry and Financial Markets Association and Financial Services Roundtable (Mar. 24, 2017). Comments are available on the Commission's Web site at https://www.sec.gov/comments/s7-02-17/s70217.htm.

By the Commission.
Dated: April 18, 2017.
Brent J. Fields,
Secretary.

[FR Doc. 2017-08160 Filed 4-21-17; 8:45 am]

BILLING CODE 8011-01-P